DEPARTMENT OF STATE

[Public Notice 5064]

U.S. Advisory Commission on Public Diplomacy; Closed Meeting

The U.S. Advisory Commission on Public Diplomacy will hold a meeting on Wednesday, May 25, 2005 at 9 a.m. in Room 840 of the U.S. Department of State at 301 4th Street, SW., Washington, DC. Pursuant to 5 U.S.C. 552b [c], the meeting will be closed to the public. During its discussion, the Advisory Commission will discuss information that, upon premature disclosure, would likely frustrate implementation of proposed Department of State action and that relates solely to internal personnel rules and practices of the Department of State. The Commissioners will review efforts that expand interagency coordination of public diplomacy programs to increase their effectiveness in communicating with foreign audiences.

The Commission was reauthorized pursuant to Public Law 106-113 (H.R. 3194, Consolidated Appropriations Act, 2000). Its Charter was renewed February 18, 2005. The U.S. Advisory Commission on Public Diplomacy is a bipartisan Presidentially appointed panel created by Congress in 1948 to provide oversight of U.S. Government activities intended to understand, inform and influence foreign publics. The Commission reports its findings and recommendations to the President, the Congress and the Secretary of State and the American people. Current Commission members include Chairman, Barbara M. Barrett of Arizona; Harold Pachios of Maine; Jay T. Snyder of New York; Maria Sophia Aguirre of Washington, DC; Charles “Tre” Evers III of Florida; Ambassador Elizabeth Bagley of Washington, DC and Ambassador Penne Korth Peacock of Washington, DC.

For more information, please contact Barbara Barrett at 202-203-7880.

Dated: May 11, 2005.
Katherine Yemelyanov,
Deputy Executive Director, U.S. Advisory Commission on Public Diplomacy, Department of State.

[FR Doc. 05-9789 Filed 5-16-05; 8:45 am]

BILLING CODE 4710-11-P